DEPARTMENT OF THE INTERIOR

Bureau of Land Management

[LLES003420.L13200000.EL0000; WVES-50556; WVES-50560]

Notice of Availability of the Final Land Use Analysis and Final Environmental Impact Statement for the East Lynn Lake Coal Lease by Applications WVES-50556 and WVES-50560, Wayne County, West Virginia

AGENCY: Bureau of Land Management, Interior.

ACTION: Notice of Availability.

SUMMARY: In accordance with National Environmental Policy Act of 1969 (NEPA) and the Federal Land Policy and Management Act of 1976 (FLPMA), the Bureau of Land Management (BLM) has prepared a Final Land Use Analysis (LUA) and Final Environmental Impact Statement (EIS) to analyze the potential impacts of two Federal Coal Lease By Applications (LBA) WVES-50556 and WVES-50560, totaling 13,089.55 acres at the U.S. Army Corps of Engineers' (USACE) East Lynn Lake Project in Wayne County, West Virginia.

DATES: The BLM planning regulations (43 CFR 1610.5-2 and 43 CFR 3420.1-4) state that any person who meets the conditions as described in the regulations may protest the BLM's Proposed Land Use Analysis. A person who meets the conditions and files a protest must file the protest within 30 days of the date that the Environmental Protection Agency (EPA) publishes its notice in the Federal Register.

The BLM will not issue a final decision on the proposal for a minimum of 30 days following the EPA's publication of its Notice of Availability (NOA) of this document in the Federal Register.

ADDRESSES: Copies of the East Lynn Lake Project Final LUA/Final EIS have been sent to affected Federal, State, and local government agencies and to interested parties. Copies of the East Lynn lake Final LUA/Final EIS are available for public inspection at the following locations:

• Bureau of Land Management, Northeastern States Field Office, 626 East Wisconsin Avenue, Suite 200, Milwaukee, Wisconsin 53202

• U.S. Army Corps of Engineers, 502 Eight St., Huntington, West Virginia 25701

• U.S. Army Corps of Engineers, East Lynn Lake Visitor Center, HC85, East Lynn, West Virginia 25512

• Wayne County Library, 325 Keyser St., Wayne, West Virginia 25570

Interested persons may also review the Final LUA/Final EIS on the following Web site: http://www.blm.gov/es/st/en/prog/east_lynn_lake_coal.html. All protests must be in writing and mailed to the following addresses:

Regular Mail: Director (210), Attention: Brenda Williams, P.O. Box 71383, Washington, DC 20024-1383. | Overnight Mail: Director (210), Attention: Brenda Williams, 20 M. Street SE., Room 2134LM, Washington, DC 20003.

FOR FURTHER INFORMATION CONTACT: Kurt Wadzinski, BLM Project Manager, at 414-297-4408, (kwadzins@blm.gov), Bureau of Land Management, 626 East Wisconsin Avenue, Suite 200, Milwaukee, WI 53202. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM is considering issuing coal leases as a result of applications made by Argus Energy WV LLC (Argus) and Rockspring Development Inc. (Rockspring) to lease the Federal coal in the East Lynn Lake Project area in Wayne County, West Virginia. Argus submitted a coal LBA (WVES-50556) to BLM for 7,639.63 acres bordering a portion of the southern shore of East Lynn Lake. Rockspring also submitted a coal LBA (WVES-50560) to BLM for 5,449.92 acres that border a portion of the north shore of the lake. The two applicants are proposing to use private existing underground mines to access the adjacent Federal coal. No mining would occur directly beneath the lake itself and no surface mining would take place. East Lynn Lake is located approximately 25 miles south of Huntington, West Virginia, and is managed by the USACE for flood control, recreation, and wildlife. The Final LUA/Final EIS analyzes and discloses to the public direct, indirect, and cumulative environmental impacts of issuing Federal coal leases in the East Lynn Lake Project area.

The State of West Virginia does not use the Public Land Rectangular Survey system to legally describe land tracts within the State. The State of West Virginia uses Metes and Bounds property descriptions. Consequently, to avoid numerous pages of lengthy legal descriptions, the Federal coal reserves encompassed by the LBAs are described below by referencing the USACE mineral-tract number the reserves fall within. It should be pointed out that referencing a mineral-tract number in the listing below does not necessarily mean the entire mineral tract is under application. More detailed property descriptions are available in the case files located in the BLM Northeastern States Field Office, see ADDRESSES above.

Argus, LBA WVES-50556

Mineral Tract Numbers: 77M-14; 177M-12; 177M-11; 177M-1; 745M; 746M; 808; 840M; 843M; 846M; 1140M; 1140; 1301; 1313M; 1717M; 1718M; 1810M; 1811M; 1813M; 2020M; 2321M; 2430M; 2431M; and 2737.

Approximately 7,639.63 in Wayne County, West Virginia.

Rockspring, LBA WVES-50560

Mineral Tract Numbers: 174M; 177M-2p; 177M-1; 184M; 376ME-2; 375M; 376ME-1; 377M; 378M; 380M; 381M; 382M; 384M; 386M; 390ME-1; 395M; 427M; 430M; 517A; 517B; 545M; 547M; 548M; 550M; 553M; 554M; 556M; 745M; 847M; 1450M; 1451M; 1452M; 1453M; 1717M and 1718M.

Approximately 5,449.92 in Wayne County, West Virginia.

Argus proposes to mine the Federal coal in the lease application area by underground methods extending from two of their existing underground mines located on private land to the south of the application area. Rockspring would similarly access their application area from their existing underground mine located on private lands north of their application area. The existing mines for Argus and Rockspring have approved mining and reclamation plans from the West Virginia Department of Environmental Quality (DEQ) and an approved air quality permit from the Air Quality Division of the West Virginia DEQ.

It is reasonable to expect that Rockspring may wish to conduct exploratory drilling on their area of interest. It is also reasonable to expect that both companies may need to drill additional holes for mine plan purposes if leases were to be issued and mine plans approved.

The Office of Surface Mining Reclamation and Enforcement (OSM), the USACE, and the West Virginia Division of Natural Resources (DNR) are cooperating agencies in the preparation of the Final LUA/Final EIS. The BLM is authorized to lease Federal coal under the Mineral Leasing Act as defined under 43 CFR 3480.0-5(a)(25) for federally owned coal at East Lynn Lake. The OSM, in cooperation with the State of West Virginia, issues mine permits under the Surface Mining Control and Reclamation Act.

The Final LUA/Final EIS analyzes leasing of the East Lynn Lake Federal coal tracts as the Proposed Action, and it is the agency's Preferred Alternative. Under the Proposed Action, a competitive sale would be held and two leases issued for Federal coal in the tracts as applied for by Argus and Rockspring. The Final LUA/Final EIS also analyzes the rejection of the applications to lease Federal coal as the No Action Alternative. These alternatives were developed through issue identification during the scoping process. Such issues include: direct, indirect, and cumulative environmental impacts, protection of the East Lynn Lake including surface and groundwater water quality, integrity of the dam, cultural, social science, and economic impacts associated with commercial leasing of the Federal coal.

The Notice of Intent (NOI) to prepare a LUA/EIS for Federal coal leasing administered by the BLM in Wayne County, West Virginia was published in the Federal Register on July 14, 2005 (70 FR 40723). As originally stated in the NOI, the LUA/EIS is to evaluate the potential impacts associated with the commercial leasing of Federal coal in the East Lynn Lake Project area. A notice announcing the availability of the Draft LUA and Draft EIS and Notice of Public Hearing was published in the Federal Register by the EPA on June 27, 2008. A 90-day comment period on the Draft LUA/Draft EIS commenced with publication of the EPA's notice of availability, which would have ended on September 24, 2008. On September 9, 2008, a Notice of Extension was published in the Federal Register to extend the comment period an additional 45 days and this period ended on November 10, 2008. The BLM's Federal Register notice announced the date and time of the public hearing, which was held on July 31, 2008, in Wayne, West Virginia. The purpose of the hearing was to solicit comments on the Draft LUA/Draft EIS, the fair market value, and the maximum economic recovery of the Federal coal. Seven statements were given as testimony at the public hearing; they are summarized in an appendix in the Final LUA/Final EIS. During the Draft LUA/Draft EIS comment period, the BLM received 48 comment letters, included in an appendix to the Final LUA/Final EIS with BLM's responses to the comments. Comments on the Draft LUA/Draft EIS received from the public and internal BLM review were considered and incorporated as appropriate into the document. Public comments resulted in the addition of clarification text, but did not significantly change the Final LUA/Final EIS.

Instructions for filing a protest with the Director of the BLM regarding the Final LUA/Final EIS may be found in the Dear Reader Letter of the East Lynn Lake Project Final LUA/Final EIS and at 43 CFR 1610.5-2. Emailed and faxed protests will not be accepted as valid protests unless the protesting party also provides the original letter by either regular or overnight mail postmarked by the close of the protest period. Under these conditions, the BLM will consider the emailed or faxed protest as an advance copy and the comment will receive full consideration. If you wish to provide the BLM with such advance notification, please direct faxed protests to the attention of the BLM protest coordinator at (202) 912-7212, and emails to bhudgens@blm.gov.

All protests, including the follow-up letter (if emailing or faxing) must be in writing and mailed to the appropriate address, as set forth in the ADDRESSES section above.

Before including your phone number, email address, or other personal identifying information in your protest, you should be aware that your entire protest—including your personal identifying information—may be made publicly available at any time. While you can ask us in your protest to withhold your personal identifying information from public review, we cannot guarantee that we will be able to do so.

Mike Pool,
Acting Director.

[FR Doc. 2012-14180 Filed 6-8-12; 8:45 am]

BILLING CODE 4310-GJ-P